DEPARTMENT OF HEALTH AND HUMAN SERVICES

Substance Abuse and Mental Health Services Administration

Fiscal Year (FY) 2000 Funding Opportunities

AGENCY: Substance Abuse and Mental Health Services Administration, HHS.

ACTION: Notice of Funding Availability.

SUMMARY: The Substance Abuse and Mental Health Services Administration (SAMHSA) Center for Substance Abuse Treatment (CSAT) announces the availability of FY 2000 funds for grants for the following activity. This activity is discussed in more detail under section 3 of this notice. This notice is not a complete description of the activity; potential applicants must obtain a copy of the Program Announcement, including Part I, Programmatic Guidance for Grants to Expand Substance Abuse Treatment Capacity in Targeted Areas of Need, and Part II, General Policies and Procedures Applicable to all SAMHSA Applications for Discretionary Grants and Cooperative Agreements, before preparing an application.

Activity | Application deadline | Est. funds FY 2000 | Est. No. of awards | Project period
HIV Services Integration Planning Grants | July 28, 2000 | up to $3.5 million | 25-30 | 1 year

The actual amount available for awards and their allocation may vary, depending on unanticipated program requirements and the number and quality of applications received. FY 2000 funds for the activity discussed in this announcement were appropriated by the Congress under Public Law 106-113. SAMHSA's policies and procedures for peer review and Advisory Council review of grant and cooperative agreement applications were published in the Federal Register (Vol. 58, No. 126) on July 2, 1993.

The Public Health Service (PHS) is committed to achieving the health promotion and disease prevention objectives of Healthy People 2000, a PHS-led national activity for setting priority areas. The SAMHSA Centers' substance abuse and mental health services activities address issues related to Healthy People 2000 objectives of Mental Health and Mental Disorders; Alcohol and Other Drugs; Clinical Preventive Services; HIV Infection; and Surveillance and Data Systems. Potential applicants may obtain a copy of Healthy People 2000 (Full Report: Stock No. 017-001-00474-0) or Summary Report: Stock No. 017-001-00473-1) through the Superintendent of Documents, Government Printing Office, Washington, DC 20402-9325 (Telephone: 202-512-1800).

SAMHSA will publish additional notices of available funding opportunities for FY 2000 in subsequent issues of the Federal Register.

General Instructions: Applicants must use application form PHS 5161-1 (Rev. 6/99; OMB No. 0920-0428). The application kit contains the two-part application materials (complete programmatic guidance and instructions for preparing and submitting applications), the PHS 5161-1 which includes Standard Form 424 (Face Page), and other documentation and forms. Application kits may be obtained from the organization specified for the activity covered by this notice (see Section 3).

When requesting an application kit, the applicant must specify the particular activity for which detailed information is desired. This is to ensure receipt of all necessary forms and information, including any specific program review and award criteria.

The PHS 5161-1 application form and the full text of the activity described in section 4 are also available electronically via SAMHSA's World Wide Web Home Page (address: http://www.samhsa.gov).

Application Submission: Applications must be submitted to: SAMHSA Programs, Center for Scientific Review, 5600 Fishers Lane, Room 17-89, Rockville, MD 20857.

Applications sent to an address other than the address specified above will be returned to the applicant without review.

Application Deadlines: The deadlines for receipt of applications are listed in the table above. Competing applications must be received by the indicated receipt date to be accepted for review. An application received after the deadline may only be accepted if it carries a legible proof-of-mailing date assigned by the carrier and that date is not later than one week prior to the deadline date. Private metered postmarks are not acceptable as proof of timely mailing. Applications received after the deadline date will be returned to the applicant without review.

FOR FURTHER INFORMATION CONTACT: Requests for activity-specific technical information should be directed to the program contact person identified for the activity covered by this notice (see section 3).

Requests for information concerning business management issues should be directed to the grants management contact person identified for the activity covered by this notice (see Section 3).

Programmatic Information

1. Program Background and Objectives

SAMHSA's mission within the Nation's health system is to improve the quality and availability of prevention, early intervention, treatment, and rehabilitation services for substance abuse and mental illnesses, including co-occurring disorders, in order to improve health and reduce illness, death, disability, and cost to society.

Reinventing government, with its emphases on redefining the role of Federal agencies and on improving customer service, has provided SAMHSA with a welcome opportunity to examine carefully its programs and activities. As a result of that process, SAMHSA moved assertively to create a renewed and strategic emphasis on using its resources to generate knowledge about ways to improve the prevention and treatment of substance abuse and mental illness and to work with State and local governments as well as providers, families, and consumers to effectively use that knowledge in everyday practice.

2. Criteria for Review and Funding

2.1 General Review Criteria

Competing applications requesting funding under the specific project activity in section 3 will be reviewed for technical merit in accordance with established PHS/SAMHSA peer review procedures. Review criteria that will be used by the peer review groups are specified in the application guidance material.

2.2 Award Criteria for Scored Applications

Applications will be considered for funding on the basis of their overall technical merit as determined through the peer review group and the appropriate National Advisory Council review process. Availability of funds will also be an award criteria. Additional award criteria specific to the programmatic activity may be included in the application guidance materials.

3. Special FY 2000 SAMHSA Activities

Minority Community Planning Grants for Integration of HIV/AIDS and Substance Abuse Treatment, Mental Health, Primary Care and Public Health (Short Title: HIV Services Integration Planning, GFA No. TI 00-008)

• Application Deadline: July 28, 2000.

• Purpose: The Center for Substance Abuse Treatment (CSAT), Substance Abuse and Mental Health Services Administration (SAMHSA), announces the availability of funds for grants for community planning and consensus building. Grantees will develop plans that describe how organizations and agencies should work together to deliver integrated substance abuse treatment, HIV/AIDS prevention and treatment, mental health, primary care and public health services. The targeted populations are racial and ethnic groups who are the highest risk for substance abuse and HIV including: African Americans, Latinos/Hispanics, or other racial or ethnic groups at high risk. The grants are part of a Phase I Planning Program.

Grants can be used for community planning and consensus development. The following are some examples of activities that may be supported: Providing community education; for example, training on community planning and community change strategies; developing an executive advisory committee (include members from community, public, private, and corporate sectors); educating and training groups on organizational and community change dynamics; bringing together various community groups to seek advice and consensus; providing expert consultation and technical assistance; funding needed for travel and other logistical costs to consumers, family members, and others to be able to participate on committees or in programs; evaluating the community planning process; and, other activities that focus on community planning and consensus building.

• Eligible Applicants: Only government units may apply because of their responsibility for the needs of their citizens. The success of the program will depend on their authority and their ability to coordinate a variety of resources and to help their citizens apply for future funding.

State government applicants must:

• Have a working relationship with a city, town, and/or county agency in order to develop plans for their targeted population.

• Show, in a formal MOU (memorandum of understanding), an ongoing public health agreement that describes the working relationship (for example, joint activities).

• Have an annual AIDS case rate of, or greater than, 10 out of 100,000 people.

Local Government applicants (cities, towns, and counties) and Native American Tribal Communities must be located in one of the following:

• A State with an annual AIDS case rate of, or greater than, 10 out of 100,000 people.

• An MSA (metropolitan statistical area) with an annual AIDS case rate of, or greater than, 15 out of 100,000 people.

In the absence of consistent reporting of HIV data by all jurisdictions, the best indicator of the magnitude of the epidemic is AIDS case rates derived from the Center for Disease Control and Prevention (CDC) HIV/AIDS surveillance reports.

• Amount: It is estimated that up to $3.5 million will be available to support 25 to 30 grants under this announcement in fiscal year 2000. The average award is expected to range from $100,000 to $150,000 in total costs (direct and indirect).

• Period of Support: Grants will be awarded for a period for 12 months.

• Catalog of Federal Domestic Assistance Number: 93.230.

• Program Contact: For questions concerning program issues, contact: David C. Thompson, Clinical Interventions and Organizational Models Branch, Division of Practice and Systems Development, Center for Substance Abuse Treatment, SAMHSA, Rockwall II, Suite 740, 5600 Fishers Lane, Rockville, MD 20857, (301) 443-6523, E-Mail: dthompso@samhsa.gov.

For questions regarding grants management issues, contact: Kathleen Sample, Division of Grants Management, OPS, Substance Abuse and Mental Health Services Administration, Rockwall II, 6th floor, 5600 Fishers Lane, Rockville, MD 20857, (301) 443-9667, E-Mail: ksample@samhsa.gov.

• Application kits are available from: National Clearinghouse for Alcohol and Drug Information (NCADI), P.O. Box 2345, Rockville, MD 20847-2345, Telephone: 1-800-729-6686.

4. Public Health System Reporting Requirements

The Public Health System Impact Statement (PHSIS) is intended to keep State and local health officials apprised of proposed health services grant and cooperative agreement applications submitted by community-based nongovernmental organizations within their jurisdictions.

Community-based nongovernmental service providers who are not transmitting their applications through the State must submit a PHSIS to the head(s) of the appropriate State and local health agencies in the area(s) to be affected not later than the pertinent receipt date for applications. This PHSIS consists of the following information:

a. A copy of the face page of the application (Standard form 424).

b. A summary of the project (PHSIS), not to exceed one page, which provides:

(1) A description of the population to be served.

(2) A summary of the services to be provided.

(3) A description of the coordination planned with the appropriate State or local health agencies.

State and local governments and Indian Tribal Authority applicants are not subject to the Public Health System Reporting Requirements.

Application guidance materials will specify if a particular FY 2000 activity is subject to the Public Health System Reporting Requirements.

5. PHS Non-use of Tobacco Policy Statement

The PHS strongly encourages all grant and contract recipients to provide a smoke-free workplace and promote the non-use of all tobacco products. In addition, Public Law 103-227, the Pro-Children Act of 1994, prohibits smoking in certain facilities (or in some cases, any portion of a facility) in which regular or routine education, library, day care, health care, or early childhood development services are provided to children. This is consistent with the PHS mission to protect and advance the physical and mental health of the American people.

6. Executive Order 12372

Applications submitted in response to the FY 2000 activity listed above are subject to the intergovernmental review requirements of Executive Order 12372, as implemented through DHHS regulations at 45 CFR Part 100. E.O. 12372 sets up a system for State and local government review of applications for Federal financial assistance. Applicants (other than Federally recognized Indian tribal governments) should contact the State's Single Point of Contact (SPOC) as early as possible to alert them to the prospective application(s) and to receive any necessary instructions on the State's review process. For proposed projects serving more than one State, the applicant is advised to contact the SPOC of each affected State. A current listing of SPOCs is included in the application guidance materials. The SPOC should send any State review process recommendations directly to: Division of Extramural Activities, Policy, and Review, Substance Abuse and Mental Health Services Administration, Parklawn Building, Room 17-89, 5600 Fishers Lane, Rockville, Maryland 20857.

The due date for State review process recommendations is no later than 60 days after the specified deadline date for the receipt of applications. SAMHSA does not guarantee to accommodate or explain SPOC comments that are received after the 60-day cut-off.

Dated: May 17, 2000.
Richard Kopanda,
Executive Officer, SAMHSA.

[FR Doc. 00-12910 Filed 5-22-00; 8:45 am]

BILLING CODE 4162-20-P